DEPARTMENT OF THE INTERIOR

Bureau of Land Management

[CO-935; COC-48469]

Proposed Extension of Withdrawal; Opportunity for Public Meeting; Colorado

December 14, 2000.

AGENCY: Bureau of Land Management, Interior.

ACTION: Notice.

SUMMARY: The Department of Agriculture, Forest Service, proposes to extend Public Land Order No. 6846 for another 10-year period. This order withdrew National Forest System lands from location and entry under the mining laws, to protect wild and scenic values on the South Platte River. The lands have been and remain open to Forest management and to mineral leasing. This notice also gives an opportunity to comment on the proposed action and to request a public meeting.

DATES: Comments and requests for a public meeting must be received by April 2, 2001.

ADDRESSES: Comments and meeting requests should be sent to the Colorado State Director, 2850 Youngfield Street, Lakewood, Colorado 80215-7093.

FOR FURTHER INFORMATION CONTACT: Doris E. Chelius at 303-239-3706.

SUPPLEMENTARY INFORMATION: On December 13, 2000, the U.S. Department of Agriculture, Forest Service, requested that Public Land Order 6846 be extended for an additional 10 year period. This withdrawal was made to protect wild and scenic values on the South Platte River. Public Land Order 6864 will expire April 11, 2001.

This withdrawal comprises approximately 4,584 acres of National Forest System lands along the South Platte River in the Pike National Forest in Tps. 10, 11, and 12 S., R. 71 W., and T. 13 S., R. 72 W., 6th Principal Meridian, in Douglas, Jefferson, Park and Teller Counties, Colorado. A complete description of the lands can be provided by the Colorado State Office at the address shown above.

For a period of 90 days from the date of publication of this notice, all persons who wish to submit comments, suggestions, or objections in connection with the proposed extension, or to request a public meeting may present their views in writing to the Colorado State Director at the address shown above.

Notice is hereby given that an opportunity for a public meeting is afforded in connection with this proposed extension. Any interested persons who desire a public meeting for the purpose of being heard on this proposed action should submit a written request to the Colorado State Director within 90 days from the date of publication of this notice. If the authorized officer determines that a public meeting will be held, a notice of the time and place will be published in the Federal Register at least 30 days prior to the scheduled date of the meeting.

This extension will be processed in accordance with the regulations set forth in 43 CFR 2310.4.

Jenny L. Saunders,
Realty Officer.

[FR Doc. 00-33416 Filed 12-29-00; 8:45 am]

BILLING CODE 3410-11-M